DEPARTMENT OF ENERGY

Federal Energy Regulatory Commission

[Docket No. CP15-17-000]

Sabal Trail Transmission, LLC; Supplemental Notice of Intent To Prepare an Environmental Impact Statement for the Proposed Southeast Market Pipelines Project and Request for Comments on Environmental Issues Related to the Newly Proposed Albany Compressor Station Location

In a June 10, 2015, filing with the Federal Energy Regulatory Commission (FERC or Commission), Sabal Trail Transmission, LLC (Sabal Trail) proposed a new location for the Albany Compressor Station, a component of the Sabal Trail Project (Project) in Dougherty County, Georgia. This new site, which is described below, would affect new landowners; therefore, the Commission is issuing this supplemental notice (Notice) to provide landowners and other interested parties an opportunity to comment on the new compressor station location. As previously noticed on February 18, 2014, and as supplemented on October 15, 2014, and supplemented herein, the FERC is the lead federal agency responsible for conducting the environmental review of the Project, and is preparing an environmental impact statement (EIS) that discusses the environmental impacts of the Project. This EIS will be used in-part by the Commission to determine whether the Project is in the public convenience and necessity.

You have been identified as a landowner or an interested party residing within 0.5-mile of the newly proposed compressor station location. Information in this Notice was prepared to familiarize you with the new site and instruct you on how to submit comments. This Notice is also being sent to federal, state, and local government agencies; elected officials; Native American tribes; and local libraries and newspapers. We encourage elected officials and government representatives to notify their constituents about the Project and inform them on how they can comment on their areas of concern. Please note that comments on this Notice should be filed with the Commission by July 20, 2015.

To help potentially affected landowners and other interested parties better understand the Commission and its environmental review process, the “For Citizens” section of the FERC Web site (www.ferc.gov) provides information about getting involved in FERC jurisdictional projects, and a citizens' guide entitled “An Interstate Natural Gas Facility On My Land? What Do I Need to Know?” This guide addresses a number of frequently asked questions, including the use of eminent domain and how to participate in the Commission's proceedings.

Public Participation

You can make a difference by providing us with your specific comments about the Project. Your comments should focus on the potential environmental effects, reasonable alternatives, and measures to avoid or lessen environmental impacts. The more specific your comments, the more useful they will be. To ensure that your comments are considered in a timely manner and properly recorded, please send your comments so that the Commission receives them in Washington, DC on or before July 20, 2015.

For your convenience, there are three methods you can use to submit your comments to the Commission. In all instances, please reference the Project docket number (CP15-17-000) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Project Summary and Background

The Project is being reviewed concurrently along with the Florida Southeast Connection Project and the Hillabee Expansion Project. These combined projects would involve the construction and operation of over 650 miles of interstate natural gas transmission pipeline and associated facilities in Alabama, Georgia, and Florida (referred to as the Southeast Market Pipelines Project). The Project would connect with the Hillabee Expansion Project in Alabama, and the Florida Southeast Connection Project in Florida.

On October 16, 2013, the FERC environmental staff approved Sabal Trail's request to use the Commission's Pre-Filing Process under docket number PF14-1-000. The purpose of the Pre-Filing Process is to encourage the early involvement of interested stakeholders to identify and resolve project-related issues before an application is filed with the Commission. During the course of the Pre-Filing Process, numerous concerns were expressed about the potential environmental impacts of the Albany Compressor Station and numerous alternative locations were identified and evaluated. On November 21, 2014, Sabal Trail filed its formal application with the Commission which was accepted for processing under docket CP15-17-000. Since that time, we requested additional information from Sabal Trail in three separate data requests. Sabal Trail responded to each of those requests and provided additional information in nine supplemental filings, including the June 10, 2015 filing in which it informed the Commission of the new, proposed location for the Albany Compressor Station.

Newly Proposed Albany Compressor Station Location

In its November 2014 application, Sabal Trail proposed to locate the Albany Compressor Station along Newton Road just southwest of the City of Albany in Dougherty County (the Newton Road Site). Upon further evaluation, Sabal Trail now proposes to locate the Albany Compressor Station on a 98-acre parcel along West Oakridge Drive (the West Oakridge Drive Site). The West Oakridge Drive Site is located to the west of Albany, approximately 3 miles northwest from the Newton Road Site. A map depicting the newly proposed West Oakridge Drive Site is provided in Appendix 1.

Sabal Trail would locate the compressor station within a 34-acre fenced area on the southern end of the site, approximately 2,000 feet south of West Oakridge Drive. The site is largely wooded with mature, planted pine, and Sabal Trail would retain at least a 100-foot-wide tree buffer around the entire station. Access to the station would be from West Oakridge Drive via an existing road on the site. Sabal Trail would also slightly modify the proposed pipeline alignment on the site to retain a 100-foot-wide tree buffer between the pipeline right-of-way and the western boundary of the site.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this Notice, the Commission requests public comments on the West Oakridge Drive Site for the Albany Compressor Station. We will consider all filed comments that are suggested during the preparation of the EIS.

Our independent analysis of the issues will be presented in a draft EIS that will be placed in the public record, published, and distributed to the public for comments. We will also hold public comment meetings in the Project area and will address comments on the draft EIS in a final EIS. The final EIS will also be placed in the public record, published, and distributed to the public. To ensure your comments are considered, please carefully follow the instructions in the Public Participation section, beginning on page 2.

Consultations Under Section 106 of the National Historic Preservation Act

In accordance with the Advisory Council on Historic Preservation's implementing regulations for section 106 of the National Historic Preservation Act, we are using this supplemental Notice to inform the Georgia State Historic Preservation Office (SHPO) of the proposed new site, and to solicit its view and those of other government agencies, interested Indian tribes, and the public on the Project's potential effects on historic properties.¹ We will define the project-specific Area of Potential Effects (APE) in consultation with the SHPO as the Project develops. On natural gas facility projects, the APE at a minimum encompasses all areas subject to ground disturbance (examples include construction right-of-way, contractor/pipe storage yards, compressor stations, meter stations, and access roads). Our EIS for the Project will document our findings on the impacts on historic properties and summarize the status of consultations under section 106.

¹ The Advisory Council on Historic Preservation regulations are at Title 36, Code of Federal Regulations, part 800. Those regulations define historic properties as any prehistoric or historic district, site, building, structure, or object included in or eligible for inclusion in the National Register of Historic Places.

Environmental Mailing List

Copies of the draft EIS will be sent to the environmental mailing list for public review and comment. The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the proposed Project.

If you would prefer to receive a paper copy of the draft EIS instead of the CD version or would like to remove your name from the mailing list, please return the attached Information Request (Appendix 2).

Becoming an Intervenor

You may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the Project is available from the Commission's Office of External Affairs, at (866) 208-FERC, or on the FERC Web site (www.ferc.gov) using the eLibrary link. Click on the eLibrary link, click on “General Search,” and enter the docket number, excluding the last three digits (i.e., CP15-17). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: June 19, 2015.
Kimberly D. Bose,
Secretary.

[FR Doc. 2015-15649 Filed 6-25-15; 8:45 am]

BILLING CODE 6717-01-P